DEPARTMENT OF COMMERCE

[I.D. 051900A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Northwest Region Logbook Family of Forms.

Form Number(s): None.

OMB Approval Number: 0648-0271.

Type of Request: Extension of currently approved collection.

Burden Hours: 1,705.

Number of Respondents: 86.

Average Hours Per Response: 13 minutes per day for logbooks from catcher and mothership vessels, 26 minutes per day for catcher-processor vessels, 30 minutes or 4.3 minutes per day for a weekly/daily production report, 20 minutes for a product transfer/offloading logbook, and 1.25 minutes for a start/stop notification.

Needs and Uses: The information is needed for the management of the Pacific Coast Groundfish Fishery in the Exclusive Economic Zone off the states of Washington, Oregon, and California. NOAA had proposed a regulation that would require logbooks and other reports from vessels participating in this fishery. Currently the vessels are asked to voluntarily submit much of the information. The information is used to monitor the status of the fishery.

Affected Public: Business and other for-profit institutions.

Frequency: Daily, weekly, quarterly, and on occasion (prior to certain events).

Respondent's Obligation: Mandatory.

OMB Desk Officer: David Rostker, (202) 395-3897.

Copies of the above information collection proposal can be obtained by calling or writing Linda Engelmeier, DOC Forms Clearance Officer, (202) 482-3272, Department of Commerce, Room 6066, 14th and Constitution Avenue, NW, Washington, DC 20230 (or via the Internet at lengelme@doc.gov).

Written comments and recommendations for the proposed information collection should be sent within 30 days of publication of this notice to David Rostker, OMB Desk Officer, Room 10202, New Executive Office Building, Washington, DC 20503.

Dated: May 18, 2000.
Gwellnar Banks,
Management Analyst, Office of the Chief Information Officer.

[FR Doc. 00-13080 Filed 5-23-00; 8:45 am]

BILLING CODE 3510-22-F